FEDERAL COMMUNICATIONS COMMISSION

47 CFR Part 73

[DA 01-219, MM Docket No. 00-184, RM-9955]

Digital Television Broadcast Service; Sheridan, WY

AGENCY: Federal Communications Commission.

ACTION: Final rule.

SUMMARY: The Commission, at the request of Duhamel Broadcasting Enterprises, licensee of station KSGW-TV, NTSC channel 12, substitutes DTV channel 13 for station KSGW-TV's assigned DTV channel 21 at Sheridan, Wyoming. See 65 FR 59796, October 6, 2000. DTV channel 13 can be allotted to Sheridan in compliance with the principle community coverage requirements of section 73.625(a) at reference coordinates (44-37-20 N. and 107-06-57 W.) with a power of 50.0 , HAAT of 372 meters and with a DTV service population of 47 thousand. With this action, this proceeding is terminated.

DATES: Effective March 19, 2001.

FOR FURTHER INFORMATION CONTACT: Pam Blumenthal, Mass Media Bureau, (202) 418-1600.

SUPPLEMENTARY INFORMATION: This is a synopsis of the Commission's Report and Order, MM Docket No. 00-184, adopted January 31, 2001, and released February 1, 2001. The full text of this Commission decision is available for inspection and copying during normal business hours in the FCC Reference Center, 445 12th Street, SW., Washington, DC. The complete text of this decision may also be purchased from the Commission's copy contractor, International Transcription Services, Inc., (202) 857-3800, 1231 20th Street, NW, Washington, DC 20036.

List of Subjects in 47 CFR Part 73

Television, Digital television broadcasting.

Part 73 of Title 47 of the Code of Federal Regulations is amended as follows:

PART 73—[AMENDED]

1. The authority citation for Part 73 continues to read as follows:

Authority: 47 U.S.C. 154, 303, 334, 336.

§ 73.622 [Amended]

2. Section 73.622(b), the Table of Digital Television Allotments under Wyoming, is amended by removing DTV channel 21 and adding DTV channel 13 at Sheridan.

Federal Communications Commission.
Barbara A. Kreisman,
Chief, Video Services Division, Mass Media Bureau.

[FR Doc. 01-3013 Filed 2-5-01; 8:45 am]

BILLING CODE 6712-01-U